DEPARTMENT OF HOMELAND SECURITY

U.S. Citizenship and Immigration Services

Agency Information Collection Activities: Form G-884, Extension of a Currently Approved Information Collection; Comment Request

ACTION: 60-Day notice of information collection under review: Form G-884, request for the return of original document(s); OMB Control No. 1615-0100.

The Department of Homeland Security, U.S. Citizenship and Immigration Services has submitted the following information collection request for review and clearance in accordance with the Paperwork Reduction Act of 1995. The information collection is published to obtain comments from the public and affected agencies. Comments are encouraged and will be accepted for sixty days until August 3, 2009.

During this 60-day period USCIS will be evaluating whether to revise the Form G-884. Should USCIS decide to revise the Form G-884 it will advise the public when it publishes the 30-day notice in the Federal Register in accordance with the Paperwork Reduction Act. The public will then have 30 days to comment on any revisions to the Form G-884.

Written comments and suggestions regarding items contained in this notice, and especially with regard to the estimated public burden and associated response time, should be directed to the Department of Homeland Security (DHS), USCIS, Chief, Regulatory Products Division, Clearance Office, 111 Massachusetts Avenue, NW., Washington, DC 20529-2210. Comments may also be submitted to DHS via facsimile to (202) 272-8352 or via e-mail at rfs.regs@dhs.gov. When submitting comments by e-mail please make sure to add OMB Control Number 1615-0100 in the subject box.

Written comments and suggestions from the public and affected agencies concerning the collection of information should address one or more of the following four points:

(1) Evaluate whether the collection of information is necessary for the proper performance of the functions of the agency, including whether the information will have practical utility;

(2) Evaluate the accuracy of the agency's estimate of the burden of the collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: Extension of an existing information collection.

(2) Title of the Form/Collection: Request for the Return of Original Document(s).

(3) Agency Form Number, if any, and the Applicable Component of the Department of Homeland Security Sponsoring the Collection: Form G-884. U.S. Citizenship and Immigration Services.

(4) Affected Public Who Will Be Asked or Required to Respond, as well as a Brief Abstract: Primary: Individuals or households. The information provided will be used by USCIS to determine whether a person is eligible to obtain original document(s) contained in an alien file.

(5) An estimate of the total number of respondents and the amount of time estimated for an average respondent to respond: 7,500 responses at 30 minutes (0.50) per response.

(6) An estimate of the total public burden (in hours) associated with the collection: 3,750 annual burden hours.

If you need a copy of the information collection instrument, please visit the Web site at: http://www.regulations.gov/.

We may also be contacted at: USCIS, Regulatory Products Division, 111 Massachusetts Avenue, NW., Washington, DC 20529-2210, Telephone number 202-272-8377.

May 27, 2009.
Stephen Tarragon,
Deputy Chief, Regulatory Products Division, U.S. Citizenship and Immigration Services, Department of Homeland Security.

[FR Doc. E9-12762 Filed 6-1-09; 8:45 am]

BILLING CODE 9111-97-P